SMALL BUSINESS ADMINISTRATION

[Disaster Declaration # 12588 and # 12589]

Minnesota Disaster Number MN-00030

AGENCY: U.S. Small Business Administration.

ACTION: Amendment 2.

SUMMARY: This is an amendment of the Presidential declaration of a major disaster for Public Assistance Only for the State of Minnesota (FEMA-1982-DR), dated 05/10/2011.

Incident: Severe Storms and Flooding.

Incident Period: 03/16/2011 through 05/25/2011.

Effective Date: 05/25/2011.

Physical Loan Application Deadline Date: 07/11/2011.

Economic Injury (EIDL) Loan Application Deadline Date: 02/10/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Minnesota, dated 05/10/2011, is hereby amended to establish the incident period for this disaster as beginning 03/16/2011 and continuing through 05/25/2011.

All other information in the original declaration remains unchanged.

(Catalog of Federal Domestic Assistance Numbers 59002 and 59008)

James E. Rivera,
Associate Administrator for Disaster Assistance.

[FR Doc. 2011-14115 Filed 6-7-11; 8:45 am]

BILLING CODE 8025-01-P